DEPARTMENT OF THE INTERIOR

National Park Service

Notice of Inventory Completion for Native American Human Remains and Associated Funerary Objects in the Possession of the U.S. Department of the Interior, National Park Service, Natchez Trace Parkway, Tupelo, MS

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Natchez Trace Parkway, Tupelo, MS.

This notice is published as part of the National Park Service's administrative responsibilities under NAGPRA, 43 CFR 10.2 (c). The determinations within this notice are the sole responsibility of the National Park unit that has control or possession of these Native American human remains. The Assistant Director, Cultural Resources Stewardship and Partnerships is not responsible for the determinations within this notice.

A detailed assessment of the human remains was made by National Park Service professional staff in consultation with representatives of the Absentee-Shawnee Tribe of Indians of Oklahoma; Alabama-Coushatta Tribes of Texas; Alabama-Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Thlopthlocco Tribal Town, Oklahoma; Tunica-Biloxi Indian Tribe of Louisiana; and the United Keetoowah Band of Cherokee Indians of Oklahoma. The Shawnee Tribe, also known also as the “Loyal Shawnee” or “Cherokee Shawnee,” a nonfederally recognized Native American group at the time that they were consulted, have since been recognized as eligible for the special programs and services provided by the United States to Indians because of their status as Indians under provisions of P.L. 106-568.

The 75 human remains and 41 associated funerary objects described below were recovered from three different sites.

In 1963 and 1964, human remains representing 10 individuals were recovered from the Boyd site during an authorized National Park Service project to mitigate construction impacts from the Natchez Trace Parkway. No known individuals were identified. The 24 associated funerary objects are pieces of a single Baytown Plain ceramic jar.

The Boyd site is located in Madison County, MS, and consists of a village area and six mounds. On the basis of artifacts recovered during the excavations, the village area was occupied during the Woodland period (A.D. 300-700), while the mounds were built during the Mississippian period (A.D. 1000-1650). The human remains and associated funerary objects were associated with the Mississippian period use of the site. One burial was recovered with fragments of a Baytown Plain ceramic jar, a ceramic type often associated with the Late Woodland and Early Mississippian period (A.D. 700-1200). In 1949, human remains representing 36 individuals were recovered from the Gordon Mounds site during a legally authorized National Park Service excavation prior to the construction of the Natchez Trace Parkway. No known individuals were identified. The 17 associated funerary objects are 12 ceramic fragments representing 5 different vessels, 3 projectile points, and 1 stone celt.

The Gordon Mounds site is located in Jefferson County, MS, and consists of two mounds and a village area. On the basis of artifacts recovered during the excavations the site was occupied during the Late Woodland and Mississippian periods (A.D. 600-1750). Ceramic types include Mazique Incised and Addis Plain, ceramic types often associated with the late prehistoric occupants of the Natchez, MS, area and with the Natchez Indians.

In 1948 and 1972, human remains representing 29 individuals were recovered from the Emerald Mound site during legally authorized excavation projects. No known individuals were identified. No associated funerary objects are present.

The Emerald Mound site is located in the vicinity of Natchez, MS, and consists of two mounds and a plaza area. On the basis of artifacts recovered during excavation, the site was occupied during the late precontact phase of the Mississippian period (A.D. 1200-1650, or later). Ceramic types that have been historically associated with the Natchez Indians were found throughout the site. The cremated remains of infants were found in the mound. Infant sacrifice is a cultural trait that has been affiliated with the Natchez.

In 1542, Hernando de Soto's expedition heard of, and later encountered hostile Indians along the lower Mississippi River believed to have been the Natchez and their allies. In 1682, the de La Salle expedition specifically identified the Natchez as living along the banks of the lower Mississippi River. Following an unsuccessful rebellion against the French in 1729, the Natchez were dispersed. About 400 individuals surrendered to the French and were sent to the West Indies as slaves. The remaining Natchez withdrew among the Chickasaw and ultimately separated into two main bands, one settling among the Upper Creeks and the other uniting with the Cherokee.

After their removal to Indian Territory, Natchez descendants settled along both sides of the border between the Creek and Cherokee Nations. Consultation with tribal representatives indicates that those Natchez in the Cherokee Nation were regarded as “Nahchee Creeks.” The Natchez language was still spoken by some in the Creek Nation until the early 20th century and by some among the Cherokee until the 1940s. Despite the later survival of the Natchez language among the Cherokee, the Natchez survived longest as a recognizable sociocultural entity among the Creeks, where the Natchez remnant ultimately was taken in by the still-extant Ahbika ceremonial ground in the present-day Muskogee (Creek) Nation. Given territorial proximity and complexities of modern Cherokee tribal alignments in Oklahoma, both the Cherokee Nation and the United Keetowah Band of Cherokee Indians are likely to include tribal members of Natchez descent.

Based on the above mentioned information, the superintendent of Natchez Trace Parkway has determined that, pursuant to 43 CFR 10.2 (d)(1), the human remains listed above represent the physical remains of 75 individuals of Native American ancestry. The superintendent of Natchez Trace Parkway has also determined that, pursuant to 43 CFR 10.2 (d)(2), the 41 objects listed above are reasonably believed to have been placed with or near individual human remains at the time of death or later as part of a death rite or ceremony. Lastly, the superintendent of Natchez Trace Parkway has determined that, pursuant to 43 CFR 10.2 (e), there is a relationship of shared group identity that can be reasonably traced between the Native American human remains and associated funerary objects recovered from the Boyd site, Gordon Mounds site, and Emerald Mound site, and the Muskogee (Creek) Nation, Oklahoma; Cherokee Nation, Oklahoma; and United Keetoowah Band of Cherokee Indians of Oklahoma.

This notice has been sent to officials of the Absentee-Shawnee Tribe of Indians of Oklahoma; Alabama and Coushatta Tribes of Texas; Alabama-Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Shawnee Tribe, Oklahoma; Thlopthlocco Tribal Town, Oklahoma; Tunica-Biloxi Indian Tribe of Louisiana; and the United Keetoowah Band of Cherokee Indians of Oklahoma. Representatives of any other Indian tribe that believes itself to be culturally affiliated with these human remains and associated funerary objects should contact Wendell Simpson, Superintendent, Natchez Trace Parkway, 2680 Natchez Trace Parkway, Tupelo, MS 38803, telephone (662) 680-4005, before July 18, 2001. Repatriation of the human remains and associated funerary objects to the Muskogee (Creek) Nation, Oklahoma; Cherokee Nation, Oklahoma; and United Keetoowah Band of Cherokee Indians of Oklahoma may begin after that date if no additional claimants come forward.

Dated: May 10, 2001.
Frank P. McManamon,
Acting Assistant Director, Cultural Resources Stewardship and Partnerships.

[FR Doc. 01-15306 Filed 6-15-01; 8:45 am]

BILLING CODE 4310-70-F]